DEPARTMENT OF HEALTH AND HUMAN SERVICES

National Institutes of Health

Solicitation of Public Comments on the Draft Federal Pain Research Strategy

National Institute of Neurological Disorders and Stroke, Interagency Pain Research Coordinating Committee Solicitation for Public Comments on the Draft Federal Pain Research Strategy

Pursuant to section 10(a) of the Federal Advisory Committee Act, as amended (5 U.S.C. App), notice is hereby given of a meeting hosted by the National Institutes of Health to present the Draft Federal Pain Research Strategy and to solicit public comments on this document. The meeting will be open to the public and videocast.

Dates: June 1, 2017.

Time: 12:45 p.m. to 3:30 p.m. *Eastern Time*.

Agenda: Invited speakers will present and discuss research recommendations developed for the Draft Federal Pain Research Strategy. Attendees will have the opportunity to pose questions on site or on-line. Information to submit comments in advance and during the meeting will be posted on May 25th, 2017, at https://iprcc.nih.gov/.

Summary: The Federal Pain Research Strategy is an effort of the Interagency Pain Research Coordinating Committee (IPRCC) and the NINDS Office of Pain Policy to oversee development of a long-term strategic plan for pain research. A diverse and balanced group of scientific experts, patient advocates, and federal representatives identified and prioritized research recommendations as a basis for a long-term strategic plan to coordinate and advance the federal research agenda. The key areas of prevention of acute and chronic pain, acute pain and acute pain management, the transition from acute to chronic pain, chronic pain and chronic pain management, and disparities in pain and pain care will provide a framework for development of the strategy upon which important cross-cutting elements will be addressed.

Meeting Location: William H. Natcher Conference Center, Auditorium, National Institutes of Health, Bethesda, MD 20892.

Webcast Live: https://videocast.nih.gov/.

Contact Person: Linda L. Porter, Ph.D., Director, Office of Pain Policy, Officer of the Director, National Institute of Neurological Disorders and Stroke, NIH, 31 Center Drive, Room 8A31, Bethesda, MD 20892, Phone: (301) 451-4460, Email: Linda.Porter@nih.gov.

The meeting is open to the public and is free. More information can be found at https://iprcc.nih.gov/.

Individuals who participate in person or by videocast and who need special assistance, such as captioning of the call or other reasonable accommodations, should submit a request to the Contact Person listed on this notice at least seven days prior to the meeting.

Information about the IPRCC and the Federal Pain Research Strategy is available on the Web site at https://iprcc.nih.gov/.

Dated: May 3, 2017.
Walter J. Koroshetz,
Director, National Institute of Neurological Disorders and Stroke, National Institutes of Health.

[FR Doc. 2017-09860 Filed 5-15-17; 8:45 am]

BILLING CODE 4140-01-P